DEPARTMENT OF LABOR

Employment and Training Administration

Investigation Regarding Certifications of Eligibility To Apply for Worker Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address show below, not later than June 1, 2000.

Interested persons are invited to submit written comments regarding the subject matter of the investigations to the Director, Division of Trade Adjustment Assistance, at the address shown below, not later than June 1, 2000.

The petitions filed in this case are available for inspection at the Office of the Director, Division of Trade Adjustment Assistance, Employment and Training Administration, U.S. Department of Labor, 200 Constitution Avenue, NW, Washington, DC 20210.

Signed at Washington, DC this 8th day of May, 2000.
Grant D. Beale,
Program Manager, Division of Trade Adjustment Assistance.

Appendix
[Petitions instituted on 05/08/2000]
TA-W | Subject firm (petitioners) | Location | Date of petition | Product(s)
37,639 | Peninsula Light Metals () | LaMiranda, CA | 04/24/2000 | Engine Pedestals, Wheels, Valves.
37,640 | Montana Power Co (Wkrs) | Butte, MT | 04/13/2000 | 10 Meter Readers.
37,641 | Jo B's, Inc. (Co.) | Odenville, AL | 04/23/2000 | Baby Carrier.
37,642 | Zeller Corporation (UAW) | Defiance, OH | 03/19/2000 | Universal Joints.
37,643 | Philips Electronics North (Co.) | Wartburg, TN | 04/21/2000 | Power Supply Transformers.
37,644 | Ranco North America (Co.) | Plain City, OH | 05/01/2000 | Water Valves.
37,645 | Lind Shoe Company (Wkrs) | Somerset, WI | 04/20/2000 | Bowling Shoes.
37,646 | Fairway Foods of Michigan (Wkrs) | Menominee, MI | 04/17/2000 | Fruits and Vegetables.
37,647 | Eureka Co (The) (IAM) | Bloomington, IL | 04/14/2000 | Vacuum Cleaners.
37,648 | Olympia Limited (Wkrs) | Hoboken, NJ | 04/04/2000 | Imitation Fur Coats.
37,649 | San Manuel Healthcare (Wkrs) | San Manuel, AZ | 04/20/2000 | Medical Care Center.
37,650 | Long Handles Shirts (Co.) | Monroe, NC | 04/17/2000 | Men's Knit Shirts.
37,651 | Nortel Networks (Wkrs) | Santa Clara, CA | 04/20/2000 | Telephone Switches.
37,652 | Monofrax, Inc (IAM) | Falconer, NY | 04/13/2000 | Fused Cast Refractories.
37,653 | Frontier Foundry (Wkrs) | Titusville, PA | 04/22/2000 | Aluminum, Steel, Bronze Castings.
37,654 | Garan, Inc (Co.) | Corinth, MS | 04/19/2000 | Cut Men, Women and Childrens Clothing.
37,655 | Cassie Cotillion, Inc (Co.) | Albemarle, NC | 04/17/2000 | Children's Sleepwear.
37,656 | United Protective Cloth. (Co.) | Purvis, MS | 04/11/2000 | Disposable Clothing.
37,657 | Ambar Chemical, Inc. (Co.) | Manistee, MI | 04/25/2000 | Liquid Calcium.
37,658 | Cooper Tools (Wkrs) | Statesboro, GA | 04/14/2000 | Scissors, and Hammers.
37,659 | Climax Molybdenum Co. (Co.) | Empire, CO | 04/28/2000 | Mine Molybdenum.
37,660 | Go Dan (Wkrs) | Houston, TX | 04/28/2000 | Radiators—Car and Truck.

[FR Doc. 00-12774 Filed 5-19-00; 8:45 am]

BILLING CODE 4510-30-M